ENVIRONMENTAL PROTECTION AGENCY

40 CFR Part 52

[EPA-R01-OAR-2017-0442; FRL-9980-11—Region 1]

Air Plan Approval; New Hampshire; Action on Single Source Orders and Revision to Definitions

AGENCY: Environmental Protection Agency (EPA).

ACTION: Proposed rule.

SUMMARY: The Environmental Protection Agency (EPA) is proposing to approve State Implementation Plan (SIP) revisions submitted by the State of New Hampshire. The revisions incorporate a single source order into the New Hampshire SIP, remove a previously approved order from the SIP, and approve various definitions used within New Hampshire's air pollution control regulations. This action is being taken under the Clean Air Act.

DATES: Written comments must be received on or before August 6, 2018.

ADDRESSES: Submit your comments, identified by Docket ID No. EPA-R01-OAR-2017-0442 at https://www.regulations.gov, or via email to mcconnell.robert@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit www.epa.gov/dockets/commenting-epa-dockets. Publicly available docket materials are available at https://www.regulations.gov or at the U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: Bob McConnell, Environmental Engineer, Air Quality Planning Unit, Air Programs Branch (Mail Code OEP05-02), U.S. Environmental Protection Agency, Region 1, 5 Post Office Square, Suite 100, Boston, Massachusetts, 02109-3912; (617) 918-1046; mcconnell.robert@epa.gov.

SUPPLEMENTARY INFORMATION: Throughout this document whenever “we,” “us,” or “our” is used, we mean EPA.

Table of Contents

I. Background and Purpose

II. Description and Review of Submittals

a. Order for the Diacom Corporation

b. Withdrawal of Order for the Kalwall Corporation

c. Revisions to Env-A 101, Definitions

III. Proposed Action

IV. Incorporation by Reference

V. Statutory and Executive Order Reviews

I. Background and Purpose

On July 24, 2017, the New Hampshire Air Resources Division (ARD) submitted a revision to its SIP consisting of an order establishing reasonably available control technology (RACT) requirements for the Diacom Corporation. On June 22, 2017, the New Hampshire ARD submitted a SIP revision that requested removal from the SIP of a previously approved RACT order for the Kalwall Corporation. On November 14, 2003, the New Hampshire ARD submitted a number of SIP revision requests to EPA, including a request to revise its set of definitions used within its air pollution control regulations. We are proposing to approve these three SIP revision requests for the reasons stated below.

II. Description and Review of Submittals

a. Order for the Diacom Corporation

On July 24, 2017, the New Hampshire ARD submitted to EPA as a SIP revision request order RO-0002 establishing RACT requirements to limit emissions of volatile organic compounds (VOCs) for the Diacom Corporation located in Amherst, New Hampshire. The Diacom Corporation requested a source-specific RACT order for VOCs for an adhesives process that requires use of a high solvent-based product necessary to obtain an extremely thin, mono-molecular layer of adhesive onto fabrics used in the production of diaphragms for the aerospace, automotive, medical, and food processing industries. Diacom's request included a technical justification and an evaluation of capture and control device technologies that were evaluated. No cost effective capture and control technologies were uncovered from the evaluation. New Hampshire reviewed and concurred with the facilities request, and on June 28, 2017, issued Order No. RO-0002 to the Diacom Corporation. Order No. RO-0002 includes a 15 tons per year cap for VOC emissions, a VOC content limit for adhesives used by the facility, requirements for how the adhesives shall be applied, work practice standards, and recordkeeping and reporting requirements. We are proposing approval of the order into the New Hampshire SIP because it is consistent with CAA requirements for VOC RACT and with New Hampshire's Chapter Env-A 1200, VOC RACT regulation.

b. Withdrawal of Order for the Kalwall Corporation

New Hampshire ARD previously submitted, and EPA previously approved, a VOC RACT order for the Kalwall Corporation. See 63 FR 11600, March 10, 1998. More recently, EPA approved a minor update to this order, referred to by NH ARD as order ARD-99-001, on November 5, 2012. See 77 FR 66388. Subsequently, NH ARD adopted VOC control requirements within Env-A 1200 that regulate the activity described within the previously approved VOC RACT order. On June 22, 2017, the NH ARD submitted a SIP revision requesting that the previously approved order for the Kalwall Corporation be removed from the New Hampshire SIP. New Hampshire's submittal indicated this request was made primarily because requirements within Env-A 1212, Miscellaneous Metal and Plastic Parts and Products, which EPA approved into the New Hampshire SIP on November 8, 2012 (77 FR 66922), cover all of the coating and adhesives emission limits contained within Kalwall's VOC RACT order. Therefore, New Hampshire ARD requested that the VOC RACT order issued to Kalwall Corporation be removed from the SIP. We are proposing approval of the State's request.

c. Revisions to Env-A 101, Definitions

On November 14, 2003, the New Hampshire ARD submitted a number of SIP revision requests to EPA that included revisions to Env-A 101, Definitions. Although New Hampshire ARD subsequently withdrew the majority of the SIP revision requests made on November 14, 2003, the request to amend Env-A 101, Definitions, was not withdrawn, and we are proposing to approve that request within this action. The revision consists of the addition of definitions for the terms coal, consignment, crude oil, major fuel company, manufactured gas, and used oil, and minor revisions to the existing definitions for acute fuel shortage, blended fuel, conforming fuel, fuel supplier, and major fuel company. These revisions help to clarify the meaning of these terms as used within New Hampshire's air pollution control regulations and therefore we are proposing approval of them into the SIP-approved version of New Hampshire's Env-A 101, Definitions.

III. Proposed Action

EPA is proposing to approve the New Hampshire SIP revision requests described above. The SIP revisions meet section 110(l) of the CAA because the revisions will not interfere with any applicable requirement concerning attainment and reasonable further progress, or any other applicable requirement of the CAA. EPA is soliciting public comments on the issues discussed in this notice or on other relevant matters. These comments will be considered before taking final action. Interested parties may participate in the Federal rulemaking procedure by submitting written comments to this proposed rule by following the instructions listed in the ADDRESSES section of this Federal Register.

IV. Incorporation by Reference

In this rule, the EPA is proposing to include in a final EPA rule regulatory text that includes incorporation by reference. In accordance with requirements of 1 CFR 51.5, the EPA is proposing to incorporate by reference order RO-0002, dated June 28, 2017, issued to the Diacom Corporation, and the eleven definitions identified within section III of this proposal. The EPA has made, and will continue to make, these documents generally available through www.regulations.gov.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• This action is not expected to be an Executive Order 13771 regulatory action because this action is not significant under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Ozone, Reporting and recordkeeping requirements, Volatile organic compounds.

Dated: June 28, 2018.
Alexandra Dunn,
Regional Administrator, EPA Region 1.

[FR Doc. 2018-14371 Filed 7-5-18; 8:45 am]

BILLING CODE 6560-50-P